DEPARTMENT OF ENERGY

Federal Energy Regulatory Commission

Combined Notice of Filings # 1

September 18, 2007.

Take notice that the Commission received the following electric corporate filings:

Docket Numbers: EC07-39-002.

Applicants: The Goldman Sachs Group, Inc.

Description: The Goldman Sachs Group, Inc submits the organizational chart showing the relationship of all the Applicants and Segregation Units.

Filed Date: 09/11/2007.

Accession Number: 20070914-0134.

Comment Date: 5 p.m. Eastern Time on Tuesday, October 2, 2007.

Docket Numbers: EC07-131-000.

Applicants: Airtricity Munnsville Wind Farm, LLC; Airtricity Munnsville WF HOLDCO, LLC; Airtricity MV HOLDCO, LLC.

Description: Application for authorization for the disposition of jurisdictional facilities, request for expedited consideration and confidential treatment re Airtricity Munnsville Wind Farm, LLC et al.

Filed Date: 09/11/2007.

Accession Number: 20070913-0016.

Comment Date: 5 p.m. Eastern Time on Tuesday, October 2, 2007.

Docket Numbers: EC07-132-000.

Applicants: CottonWood Energy Company LP; Dogwood Energy LLC; Magnolia Energy LP; Redbud Energy LP.

Description: Cottonwood Energy Co, LP et al submits an application for order authorizing blanket authorization of certain future transactions under Section 203 of the Federal Power Act.

Filed Date: 09/11/2007.

Accession Number: 20070913-0015.

Comment Date: 5 p.m. Eastern Time on Tuesday, October 2, 2007.

Take notice that the Commission received the following exempt wholesale generator filings:

Docket Numbers: EG07-81-000.

Applicants: EnergyCo Cedar Bayou 4, LLC.

Description: Notice of Self-Certification of Exempt Wholesale Generator Status of EnergyCo Cedar Bayou 4, LLC.

Filed Date: 09/13/2007.

Accession Number: 20070913-5066.

Comment Date: 5 p.m. Eastern Time on Thursday, October 4, 2007.

Docket Numbers: EG07-82-000.

Applicants: Hackberry Wind, LLC.

Description: Exempt Wholesale Generator Notice of Self-Certification of Hackberry Wind, LLC.

Filed Date: 09/14/2007.

Accession Number: 20070913-5074.

Comment Date: 5 p.m. Eastern Time on Friday, October 5, 2007.

Take notice that the Commission received the following electric rate filings:

Docket Numbers: ER94-1188-043; ER98-1279-014; ER98-4540-012; ER99-1623-012.

Applicants: LG&E Energy Marketing Inc.; Louisville Gas & Energy Company; Kentucky Utilities Company; Western Kentucky Energy Corporation.

Description: The E.ON Parties submit amendments to their market-based rate tariffs in compliance with Order 697.

Filed Date: 09/10/2007.

Accession Number: 20070914-0125.

Comment Date: 5 p.m. Eastern Time on Monday, October 1, 2007.

Docket Numbers: ER97-2801-019: ER96-719-018; ER99-2156-012.

Applicants: PacifiCorp.

Description: PacifiCorp et al submits a notice of change in status under Market-Based Rate Authority filing in compliance with Order 697.

Filed Date: 08/27/2007.

Accession Number: 20070829-0051.

Comment Date: 5 p.m. Eastern Time on Monday, September 17, 2007.

Docket Numbers: ER00-2738-007; ER00-2740-007; ER01-1570-001; ER01-1721-005; ER02-564-005; ER02-73-009; ER02-862-009; ER06-1410-004; ER06-653-002; ER99-1004-008; ES07-53-001; ES07-55-001.

Applicants: Entergy Nuclear Fitzpatrick, LLC; Entergy Nuclear Indian Point 3, LLC; Northern Iowa Windpower LLC; Entergy Nuclear Indian Point 2, LLC; Entergy Nuclear Vermont Yankee, LLC; Llano Estacado Wind, Limited Partnership; Entergy Power Ventures, L.P.; Entergy Nuclear Palisades, LLC; Entergy Nuclear Power Marketing, LLC; Entergy Nuclear Generation Company.

Description: Supplemental Application Requesting Superseding Blanket Section 204 Authorization of Entergy Services, Inc.

Filed Date: 09/13/2007.

Accession Number: 20070913-5006.

Comment Date: 5 p.m. Eastern Time on Monday, September 24, 2007.

Docket Numbers: ER01-205-022; ER06-819-005; ER98-2640-020; ER99-1610-026;

Applicants: Xcel Energy Services Inc.; Northern States Power Company; Public Service Company of Colorado; NEW CENTURY PUB SVC CO OF CO.

Description: Change in Status Report Compliance Filing of Xcel Energy Services Inc.

Filed Date: 09/14/2007.

Accession Number: 20070914-5112.

Comment Date: 5 p.m. Eastern Time on Friday, October 5, 2007.

Docket Numbers: ER02-2018-009; ER03-155-008; ER04-127-006; ER04-947-007; ER05-222-005;

Applicants: Blythe Energy, LLC; High Winds, LLC; FPL Energy Green Power Wind, LLC; POSDEF Power Company, LP; Diablo Winds, LLC; Description: Notice of Change in Status of Blythe Energy, LLC, et al.

Filed Date: 09/14/2007.

Accession Number: 20070914-5121.

Comment Date: 5 p.m. Eastern Time on Friday, October 5, 2007.

Docket Numbers: ER02-2458-010.

Applicants: Midwest Independent Transmission System Operator Inc.

Description: Midwest Independent Transmission System Operator Inc et al submits its First Amendment to the Second Amended and Restated Settlement Agreement and proposed revisions of rate schedules etc.

Filed Date: 09/10/2007.

Accession Number: 20070913-0013.

Comment Date: 5 p.m. Eastern Time on Monday, October 1, 2007.

Docket Numbers: ER04-157-022; ER04-714-012; EL05-89-002.

Applicants: Bangor Hydro-Electric Company; Florida Power & Light Co New England.

Description: New England Transmission Owners submits its revised compliance filing pursuant to FERC's 7/26/07 order under ER04-157 et al.

Filed Date: 08/27/2007.

Accession Number: 20070911-0085.

Comment Date: 5 p.m. Eastern Time on Monday, September 17, 2007.

Docket Numbers: ER05-644-006.

Applicants: PSEG Energy Resources & Trade LLC.

Description: Informational filing being made pursuant to Section III (3) of PSEG Energy Resources & Trade LLC's Cost of Service Recovery Rate Tariff.

Filed Date: 09/11/2007.

Accession Number: 20070911-5063.

Comment Date: 5 p.m. Eastern Time on Tuesday, October 2, 2007.

Docket Numbers: ER06-880-009; ER07-632-003.

Applicants: PJM Interconnection, LLC.

Description: PJM Interconnection, LLC on behalf of Neptune Regional Transmission System, LLC submits amendments to Schedule 14 filed on 3/16/07.

Filed Date: 09/13/2007.

Accession Number: 20070914-0126.

Comment Date: 5 p.m. Eastern Time on Thursday, October 4, 2007.

Docket Numbers: ER07-720-002.

Applicants: New York Independent System Operator, Inc.

Description: New York Independent System Operator, Inc. submits its Second Compliance Filing.

Filed Date: 09/13/2007.

Accession Number: 20070913-5062.

Comment Date: 5 p.m. Eastern Time on Thursday, October 4, 2007.

Docket Numbers: ER07-1215-001.

Applicants: The Royal Bank of Scottland plc.

Description: The Royal Bank of Scotland PLC submits revisions to its proposed market—based rate tariff in order to conform the proposed tariff to requirements of Order 697.

Filed Date: 09/13/2007.

Accession Number: 20070917-0054.

Comment Date: 5 p.m. Eastern Time on Thursday, October 4, 2007.

Docket Numbers: ER07-1287-001.

Applicants: Apple Group LLC.

Description: Apple Group LLC submits two amendments to Market Based Rate Application and a revised tariff designated at Original Sheet 1 to FERC Electric Tariff, Original Volume 1.

Filed Date: 09/13/2007.

Accession Number: 20070917-0055.

Comment Date: 5 p.m. Eastern Time on Thursday, October 4, 2007.

Docket Numbers: ER07-1368-000.

Applicants: Westar Energy, Inc.

Description: Westar Energy Inc submits A Notice of Cancellation of an Electric Power Supply Agreement with the City of St Marys, Kansas designated as First Revised Rate Schedule 244.

Filed Date: 09/13/2007.

Accession Number: 20070917-0057.

Comment Date: 5 p.m. Eastern Time on Thursday, October 4, 2007.

Docket Numbers: ER07-1369-000.

Applicants: PJM Interconnection, LLC.

Description: PJM Interconnection, LLC submits Joint Operating Agreement executed on 5/20/07 and 5/22/07 with New York Independent System Operator, Inc.

Filed Date: 09/13/2007.

Accession Number: 20070917-0056.

Comment Date: 5 p.m. Eastern Time on Thursday, October 4, 2007.

Take notice that the Commission received the following electric securities filings:

Docket Numbers: ES07-54-001.

Applicants: Electric Transmission Texas, LLC.

Description: Electric Transmission Texas, LLC submits pro-forma financial information as a supplement to its 8/1/07 Application.

Filed Date: 09/13/2007.

Accession Number: 20070917-0067.

Comment Date: 5 p.m. Eastern Time on Thursday, October 4, 2007.

Take notice that the Commission received the following open access transmission tariff filings:

Docket Numbers: OA07-31-001.

Applicants: Aquila, Inc.

Description: Order No. 890 Errata Filing of Aquila, Inc.

Filed Date: 09/14/2007.

Accession Number: 20070914-5008.

Comment Date: 5 p.m. Eastern Time on Friday, October 5, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-18755 Filed 9-21-07; 8:45 am]

BILLING CODE 6717-01-P